DEPARTMENT OF ENERGY

Federal Energy Regulatory Commission

[Docket No. AD04-13-000]

Assessing the State of Wind Energy in Wholesale Electricity Markets; Notice, Agenda and Staff Paper for the December 1, 2004 Technical Conference on Wind Energy

November 22, 2004.

As announced in the Notices of Technical Conference issued October 4, 2004 and November 18, 2004, the Federal Energy Regulatory Commission will host a technical conference on December 1, 2004 to assess the state of wind energy in wholesale electricity markets. The goal of the technical conference is to explore possible policy changes that would better accommodate the participation of wind energy in wholesale markets.

The conference will begin at 10 a.m. and end at approximately 6 p.m. (Mountain Standard Time) at the Adams Mark Denver Hotel, 1550 Court Place,Denver, Colorado. The conference is open for the public to attend, and registration is not required; however, in-person attendees are asked to register for the conference on-line by close of business on Monday, November 29, 2004 at http://www.ferc.gov/whats-new/registration/wind-1201-form.asp.

Transcripts of the conference will be immediately available from Ace Reporting Company (202-347-3700 or 1-800-336-6646) for a fee. They will be available for the public on the Commission's eLibrary system seven calendar days after FERC receives the transcript. Additionally, Capitol Connection offers the opportunity for remote listening of the conference via the Internet or a Phone Bridge Connection for a fee. Interested persons should make arrangements as soon as possible by visiting the Capitol Connection Web site at http://www.capitolconnection.gmu.edu and clicking on “FERC.” If you have any questions contact David Reininger or Julia Morelli at the Capitol Connection (703-993-3100).

For more information about the conference, please contact Sarah McKinley at 202-502-8004, sarah.mckinley@ferc.gov.

Linda Mitry,
Deputy Secretary.

[FR Doc. E4-3362 Filed 11-29-04; 8:45 am]

BILLING CODE 6717-01-P